DEPARTMENT OF THE TREASURY

Submission for OMB Review; Comment Request

August 11, 2003.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before September 22, 2003 to be assured of consideration.

Internal Revenue Service (IRS)

OMB Number: 1545-0089.

Form Number: IRS Form 1040NR.

Type of Review: Revision.

Title: U.S. Nonresident Alien Income Tax Return.

Description: Form 1040NR is used by nonresident alien individuals and foreign estates and trusts to report their income subject to tax and compute the correct tax liability. The information on the return is used to determine whether income, deductions, credits, payments, etc., are correctly figured. Affected public are nonresident alien individuals, estates, and trusts.

Respondents: Individuals or households, Business of other for-profit, Farms.

Estimated Number of Respondents/Recordkeepers: 309,170.

Estimated Burden Per Respondent/Recordkeeper:

Recordkeeping | 6 hr., 33 min.
Learning about the law or the form | 1 hr., 19 min.
Preparing the form | .6 hr., 28 min.
Copying, assembling, and sending the form to the IRS | 1 hr., 16 min.

Frequency of Response: Annually.

Estimated Total Reporting/Recordkeeping Burden: 4,790,964 hours.

OMB Number: 1545-0123.

Form Number: IRS Form 1120 and Schedule D, H, N, and PH.

Type of Review: Extension.

Title: For 1120, U.S. Corporation Income Tax Return; Schedule D, Capital Gains and Losses; Schedule H, Section 280H Limitations for a Personal Service Corporation (PSC); Schedule N, Foreign Operations of the U.S. Corporations; and Schedule PH, U.S. Personal Holding.

Description: Form 1120 is used by corporations to compute their taxable income and tax liability. Schedule D (Form 1120) is used by corporations to report gains and losses from the sale of capital assets. Schedule PH (Form 1120) is used by personal holding companies to figure the personal holding company tax under section 541. Schedule H (Form 1120) is used by personal service corporations to determine if they have met the minimum distribution requirements of section 280H. Schedule N (Form 1120) is used by corporations that have assets in or business operations in a foreign country or a U.S. possession. The IRS uses these forms to determine whether corporations have correctly computed their tax liability.

Respondents: Business or other for-profit, Farms.

Estimated Number of Respondent/Recordkeepers: 1,990,783.

Estimated Burden Hours Per Respondent/Recordkeeper:

Form | Recordkeeping | Learning about the law or the form | Preparing the form | Copying assembling, and sending the form to the IRS
1120 | 70 hr., 47 min | 42 hr., 1 min | 72 hr., 56 min | 8 hr., 2 min.
1120-A | 43 hr., 45 min | 24 hr., 34 min | 49 hr., 3 min | 5 hr., 5 min.
Schedule D (1120) | 6 hr., 56 min | 3 hr., 55 min | 6 hr., 3 min | 32 min.
Schedule H (1120) | 65 hr., 58 min | 35 min | 43 min |
Schedule N (1120) | 3 hr., 35 min | 1 hr., 7 min | 3 hr., 6 min | 32 min.
Schedule PH (1120) | 15 hr., 18 min | 6 hr., 12 min | 8 hr., 35 min | 32 min.

Frequency of Response: Annually.

Estimated Total Reporting/Recordkeeping Burden: 367,686,291 hours.

OMB Number: 1545-0130.

Form Number: IRS Form 1120S, Schedule D, and Schedule K-1.

Type of Review: Revision.

Title: Form 1120S, Income Tax Return for an S Corporation; Schedule D (Form 1120S), Capital Gains and Losses and Built-In Gains; and Schedule K-1 (Form 1120S), Shareholder's Share of Income, Credits, Deductions, etc.

Description: Form 1120S, Schedule D (Form 1120S), and Schedule K-1 (Form 1120S) are used by an S Corporation to figure its tax liability, and income and other tax-related information to pass through to its shareholders. Schedule K-1 is used to report to shareholders their share of the corporation's income, deductions, credits, etc. IRS uses the information to determine the correct tax for the S corporation and its shareholders.

Respondents: Business or other for-profit, Farms.

Estimated Number of Respondents/Recordkeepers: 1,880,000.

Estimated Burden Hours Per Respondent/Recordkeeper:

Form | Recordkeeping | Learning about the law or the form | Preparing the form | Copying assembling, and sending the form to the IRS
1120 S | 64 hr., 5 min | 24 hr., 24 min | 46 hr., 58 min | 5 hr., 54 min.
1120 D (1120S) | 10 hr., 2 min | 4 hr., 31 min | 9 hr., 32 min | 1 hr., 20 min.
Schedule K-1 (1120S) | 16 hr., 58 min | 10 hr., 36 min | 15 hr., 4 min | 1 hr., 4 min.

Frequency of Response: Annually.

Estimated Total Reporting/Recordkeeping Burden: 486,292,100 hours.

OMB Number: 1545-0975.

Form Number: Form 1120-W.

Type of Review: Revision.

Title: Estimated Tax for Corporations.

Description: Form 1120-W is used by corporations to figure estimated tax liability and the amount of each installment payment. Form 1120-W is a worksheet only. It is not to be filed with the Internal Revenue Service.

Respondents: Business or other for-profit.

Estimated Number of Respondents/Recordkeepers: 900,000.

Estimated Burden Hours Per Respondent/Recordkeeper:

Form | Recordkeeping | Learning about the law or the form | Preparing the form
1120-W | 8 hr., 7 min. | 1 hr., 0 min. | 1 hr., 10 min.
1120-W, Schedule. A (Part I) | 22 hr., 43 min. | 6 min. | 28 min.
1120-W, Schedule A (Part II) | 10 hr., 31 min. | 35 min. | 48 min.
1120-W, Schedule A (Part III) | 6 hr., 13 min. |  | 6 min.

Frequency of Response: Annually.

Estimated Total Reporting/Recordkeeping Burden: 9,316,190 hours.

Clearance Officer: Glenn Kirkland (202) 622-3428, Internal Revenue Service, Room 6411-03, 1111 Constitution Avenue, NW., Washington, DC 20224.

OMB Reviewer: Joseph F. Lackey, Jr. (202) 395-7316, Office of Management and Budget, Room 10235, New Executive Office Building, Washington, DC 20503.

Lois K. Holland,
Treasury PRA Clearance Officer.

[FR Doc. 03-21536 Filed 8-21-03; 8:45 am]

BILLING CODE 4830-01-P